LEGAL SERVICES CORPORATION

Sunshine Act Meeting of the Board of Directors, Committee on Provision for the Delivery of Legal Services

TIME AND DATE: The Committee on Provision for the Delivery of Legal Services of the Legal Services Corporation Board of Directors will meet on June 29, 2001. The meeting will begin at 10 a.m. and continue until the Committee concludes its agenda.

LOCATION: Sheraton Harborside Hotel, 250 Market Street, Portsmouth, NH.

STATUS OF MEETING: Open.

MATTERS TO BE CONSIDERED:

1. Approval of agenda.

2. Approval of the minutes of the Committee's meeting of January 26, 2001.

3. Presentation by Equal Justice Stakeholders in New Hampshire on Delivering Services to Low-Income Clients.

4. Presentation by Don Saunders, of NLADA, on State Planning.

5. Presentation by Michigan State Bar concerning State Planning in Michigan.

6. Presentation by other Michigan Stakeholders concerning State Planning in Michigan.

7. Update by Randi Youells on State Planning and Other Business.

8. Consider and act on other business.

9. Public comment.

CONTACT PERSON FOR INFORMATION: Victor M. Fortuno, Vice President for Legal Affairs, General Counsel & Secretary of the Corporation, at (202) 336-8800.

Special Needs: Upon request, meeting notices will be made available in alternate formats to accommodate visual and hearing impairments. Individuals who have a disability and need an accommodation to attend the meeting may notify Elizabeth S. Cushing, at (202) 336-8800.

Dated: June 21, 2001.
Victor M. Fortuno,
Vice President for Legal Affairs, General Counsel & Corporate Secretary.

[FR Doc. 01-16063 Filed 6-22-01; 9:29 am]

BILLING CODE 7050-01-P